DEPARTMENT OF STATE

[Public Notice: 9320]

Advisory Committee on Public-Private Partnerships; Notice of the Intent To Establish an Advisory Committee

This is notice of the intent to establish the Advisory Committee on Public-Private Partnerships. The Committee will serve the United States government in a solely advisory capacity concerning the development of public-private partnerships that promote shared value with the private sector worldwide. Functions will include, but will not be limited to, providing information and advice on how the Department of State can effectively explore and form public-private partnerships with the private sector on foreign policy issues, and reviewing and recommending public-private partnership opportunities for advancing foreign policy objectives. The Department of State affirms that establishment of the Committee is necessary and in the public interest.

The Committee will consult with other interested parties, agencies, and interagency committees and groups of the United States Government, foreign governments, and with national and international private sector organizations and individuals, as the Department of State and the Committee decides are necessary or desirable.

The Committee will be comprised of up to twenty-five distinguished citizens from the private sector, including leaders of for-profit businesses who are in a senior management role or who lead corporate social responsibility units; academics, scientists and innovators; diaspora, faith-based and community organizations; foundations and philanthropic organizations; and non-governmental organizations, providing the Secretary with a fresh perspective and insight apart from and independent of the State Department organization. It will not perform the function of any existing Department staff or committee.

For further information, please contact the Committee's Designated Federal Officer, Thomas Debass, at DebassT@state.gov.

Dated: October 14, 2015.
Thomas Debass,
Deputy Special Representative for Global Partnerships, Department of State.

[FR Doc. 2015-26627 Filed 10-19-15; 8:45 am]

BILLING CODE 4710-10-P